POSTAL REGULATORY COMMISSION

[Docket Nos. MC2025-948 and MC2025-958; Order No. 8596]

Removing Bound Printed Matter From the Market Dominant Product List and Raising USPS Marketing Mail Weight Limits

AGENCY: Postal Regulatory Commission.

ACTION: Notice.

SUMMARY: Effective no earlier than July 2025, the Postal Service proposes to remove two products, Bound Printed Matter Flats (BPM Flats) and Bound Printed Matter Parcels (BPM Parcels), from the Market Dominant Product List. Concurrent with this proposed removal, the Postal Service also proposes raising the weight limits for certain USPS Marketing Mail products. The Commission seeks public comments on the Postal Service's filings.

DATES: Comments are due: February 7, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Proposal

III. Administrative Actions

IV. Ordering Paragraphs

I. Introduction

On December 20, 2024, pursuant to 39 U.S.C. 3642 and 39 CFR 3040.130 et seq., the Postal Service filed a request to remove Bound Printed Matter Flats (BPM Flats) and Bound Printed Matter Parcels (BPM Parcels) from the Market Dominant Product List.¹ To support this request, the Postal Service filed a copy of the Governors' Decision supporting the request, a Certification by a Postal Service official attesting to the accuracy of the factual information appearing in the request, and proposed changes to the Mail Classification Schedule (MCS). See BPM Removal Request, Attachments A-C.

¹ Docket No. MC2025-948, United States Postal Service Request to Remove Bound Printed Matter from the Market-Dominant Product List, December 20, 2024 (BPM Removal Request).

Also on December 20, 2024, pursuant to 39 U.S.C. 3682 and 39 CFR 3040.211, the Postal Service filed a notice of a set of changes to raise the weight limits for USPS Marketing Mail Parcels and for flat-shaped mailpieces within three USPS Marketing Mail products (High Density and Saturation Flats/Parcels, Carrier Route, and Flats.² The Postal Service filed a copy of its proposed changes to the MCS for three of those four affected products. See Marketing Mail Weight Limit Notice, Attachment A.

² Docket No. MC2025-958, Notice of the United States Postal Service of Updates to the Maximum Weight Limit for Marketing Mail, December 20, 2024 (Marketing Mail Weight Limit Notice)

II. Proposal

Effective no earlier than July 2025, the Postal Service proposes to remove two products, BPM Flats and BPM Parcels, from the Market Dominant Product List. See BPM Removal Request at 2-3. The Postal Service states that BPM Flats and BPM Parcels containing catalogs, promotional material, or other advertising material may then be sent as USPS Marketing Mail. See id. at 2. The Postal Service explains that BPM Flats and BPM Parcels containing books may not be sent as USPS Marketing Mail because that class excludes order fulfillment.³ Thus, the Postal Service states that such books may be sent as Package Services Media Mail/Library Mail or by using Competitive products such as USPS Ground Advantage. See BPM Removal Request at 2. If removed, the Package Services class will contain only two products, Alaska Bypass Service and Media Mail/Library Mail. Id. at 1. The Postal Service asserts that it has provided all information required pursuant to 39 CFR 3040.131 and 3040.132 and includes Table 3 to serve as a table of contents for a reader to locate the information. See id. at 3-4.

³ See id. at 2 (citing Mailing Standards of the United States Postal Service Domestic Mail Manual 243.3.2.2, available at https://pe.usps.com/DMM300).

Concurrent with the proposed removal described above, the Postal Service also proposes raising the weight limits for certain USPS Marketing Mail products to: 15 pounds for Parcels, 24 ounces for flat-shaped mailpieces within High Density and Saturation Flats/Parcels, 24 ounces for flat-shaped mailpieces within Carrier Route, and 20 ounces for Flats. See Marketing Mail Weight Limit Notice at 1. The weight limit for letter-shaped mailpieces within USPS Marketing Mail will remain at less than 16 ounces (15.999 ounces). See BPM Removal Request at 2.

III. Administrative Actions

The Commission establishes Docket No. MC2025-948 to consider matters raised by the BPM Removal Request and Docket No. MC2025-958 to consider matters raised by the Marketing Mail Weight Limit Notice. See 39 CFR 3040.133, 3040.211(b). The instant dockets involve related issues pertaining to product consolidation and the Postal Service does not object to consolidation of the dockets. See Marketing Mail Weight Limit Notice at 1. Accordingly, the Commission will consolidate them. See 39 CFR 3010.104.

The Commission invites comments on the BPM Removal Request and the Marketing Mail Weight Limit Notice. Comments are due no later than February 7, 2025. The filings can be accessed via the Commission's website (https://www.prc.gov). In accordance with 39 CFR 3040.211(a)(1), the Postal Service is directed to file its proposed changes to the MCS for USPS Marketing Mail Parcels by January 21, 2025.

Pursuant to 39 U.S.C. 505, the Commission appoints Christopher Mohr to represent the interests of the general public (Public Representative) in these dockets.

IV. Ordering Paragraphs

It is ordered:

1. The Commission establishes Docket No. MC2025-948 to consider matters raised by the BPM Removal Request.

2. The Commission establishes Docket No. MC2025-958 to consider matters raised by the Marketing Mail Weight Limit Notice.

3. The Commission consolidates Docket Nos. MC2025-948 and MC2025-958.

4. In accordance with 39 CFR 3040.211(a)(1), the Postal Service is directed to file its proposed changes to the MCS for USPS Marketing Mail Parcels by January 21, 2025.

5. Comments by interested persons are due by February 7, 2025.

6. Pursuant to 39 U.S.C. 505, the Commission appoints Christopher Mohr to serve as an officer of the Commission (Public Representative) to represent the interests of the general public in this docket.

7. The Secretary shall arrange for publication of this Order or an abstract thereof) in the Federal Register.

By the Commission.
Erica A. Barker,
Secretary.

[FR Doc. 2025-01129 Filed 1-16-25; 8:45 am]

BILLING CODE 7710-FW-P